DEPARTMENT OF EDUCATION

[Docket No.: ED-2013-ICCD-0053]

Agency Information Collection Activities; Comment Request; Program for International Student Assessment (PISA 2015) Recruitment and Field Test

AGENCY: Institute of Education Sciences/National Center for Education Statistics (IES), Department of Education (ED).

ACTION: Notice.

SUMMARY: In accordance with the Paperwork Reduction Act of 1995 (44 U.S.C. chapter 3501 et seq.), ED is proposing a revision of an existing information collection.

DATES: Interested persons are invited to submit comments on or before June 17, 2013.

ADDRESSES: Comments submitted in response to this notice should be submitted electronically through the Federal eRulemaking Portal at http://www.regulations.gov by selecting Docket ID number ED-2013-ICCD-0053 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for International Student Assessment (PISA 2015) Recruitment and Field Test.

OMB Control Number: 1850-0755.

Type of Review: A revision of an existing information collection.

Respondents/Affected Public: Individuals or Households.

Total Estimated Number of Annual Responses: 5,810.

Total Estimated Number of Annual Burden Hours: 6,313.

Abstract: The Program for International Student Assessments (PISA) is an international assessment of 15-year-olds which focuses on assessing students science, mathematics, and reading literacy. PISA was first administered in 2000 and is conducted every three years. This submission is for the sixth cycle in the series, PISA 2015, and requests OMB approval for field test and main study recruitment, and field trial data collection. As in 2006, in PISA 2015, science will be the major subject domain. The field test will also include computer-based assessments in reading, mathematics, and collaborative problem solving. In addition to the cognitive assessments described above, PISA 2015 will include questionnaires administered to assessed students, school principals, and teachers. School recruitment for the field test in the U.S. will begin in Fall 2013 with data collection occurring during April-May 2014. The U.S. PISA main study will be conducted from September through November 2015. This submission is for recruitment for the 2014 field test and 2015 main study, conducting the 2014 field test data collection, and to provide a description of the overarching plan for all of the phases of the data collection, including the 2015 main study.

Dated: April 11, 2013.
Stephanie Valentine,
Acting Director, Information Collection Clearance Division, Privacy, Information and Records Management Services, Office of Management.

[FR Doc. 2013-08920 Filed 4-15-13; 8:45 am]

BILLING CODE 4000-01-P